DEPARTMENT OF THE INTERIOR

National Park Service

[NPS-WASO-NAGPRA-NPS0024193; PPWOCRADN0-PCU00RP14.R50000]

Notice of Inventory Completion: U.S. Department of the Interior, National Park Service, Tuzigoot National Monument, Clarkdale, AZ

AGENCY: National Park Service, Interior.

ACTION: Notice.

SUMMARY: The U.S. Department of the Interior, National Park Service, Tuzigoot National Monument, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Tuzigoot National Monument. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Tuzigoot National Monument at the address in this notice by December 8, 2017.

ADDRESSES: Dorothy FireCloud, Superintendent, Tuzigoot National Monument, P.O. Box 219, Camp Verde, AZ 86322, telephone (928) 567-5276, email dorothy_firecloud@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Tuzigoot National Monument, Clarkdale, AZ. The human remains and associated funerary objects were removed from a site in Yavapai County, AZ.

This notice is published as part of the National Park Service's administrative responsibilities under NAGPRA, 25 U.S.C. 3003(d)(3). The determinations in this notice are the sole responsibility of the Superintendent, Tuzigoot National Monument.

Consultation

A detailed assessment of the human remains was made by Tuzigoot National Monument professional staff in consultation with representatives of the Ak-Chin Indian Community (previously listed as the Ak Chin Indian Community of the Maricopa (Ak Chin) Indian Reservation, Arizona); Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico (hereafter referred to as “The Tribes”).

History and Description of the Remains

In 1955, human remains representing, at minimum, one individual were removed from a prehistoric village site located on the east side of the Clarkdale Smelter property in Yavapai County, AZ, by Ed Starkey and later donated to Tuzigoot National Monument. No known individuals were identified. The 22 associated funerary objects are 16 shell bracelets, 1 jar, and 5 bowls.

The Ak Chin Indian Community of Maricopa (Ak Chin) Reservation, Arizona; Gila River Indian Community of the Gila River Indian Reservation, Arizona; Salt River Pima-Maricopa Indian Community of the Salt River Reservation, Arizona; and the Tohono O'odham Nation of Arizona comprise one cultural group known as the O'odham. Material culture items found at the site, including associated funerary objects, demonstrate continuity between the people of the prehistoric village site located on the east side of the Clarkdale Smelter and the O'odham. These items include a Sacaton red on buff bowl and locally made plainware ceramics that are similar in construction and appearance to plainware ceramics made in lands attributed to the Hohokam archeological culture, commonly considered to be ancestral O'odham. Consultation with O'odham Tribes also indicates that oral traditions exist that describe ancestral O'odham people living in the Verde Valley.

The Fort McDowell Yavapai Nation, Arizona, traces ancestry to Yavapai bands once living in the Verde Valley. Consultation with Yavapai Tribes indicates the existence of specific ancestral names for the sites in the Verde Valley and a belief that ancestors lived near the sites. Archeological sites identified as Yavapai have also been found near the prehistoric village site on the east side of the Clarkdale Smelter. Additionally, the prehistoric village site on the east side of the Clarkdale Smelter is identified as being within the Yavapai traditional lands.

The Hopi Tribe of Arizona considers all of Arizona to be within traditional Hopi lands or within areas where Hopi clans migrated in the past. Evidence demonstrating continuity between the people that lived at the prehistoric village site on the east side of the Clarkdale Smelter and the Hopi Tribe includes archeological, anthropological, linguistic, folkloric and oral traditions. Ceramic vessels associated with the Kayenta tradition demonstrate continuity between the prehistoric village, and the Hopi people. During consultation, Hopi clan members also identified ancestral names and traditional stories about specific events and ancestral people in the Verde Valley.

The Yavapai-Prescott Indian Tribe (previously listed as the Yavapai-Prescott Tribe of the Yavapai Reservation, Arizona) traces ancestry to Yavapai bands once living in the Verde Valley. Consultation with Yavapai Tribes indicates the existence of specific ancestral names for the sites in the Verde Valley and a belief that ancestors lived near the sites. Archeological sites identified as Yavapai have also been found near the prehistoric village site on the east side of the Clarkdale Smelter. Additionally, the prehistoric village site on the east side of the Clarkdale Smelter is identified as being within the Yavapai traditional lands.

The Zuni Tribe of the Zuni Reservation, New Mexico, considers the Verde Valley to be within the migration path of ancestral Zuni people. Archeological evidence, including similarities in ceramic designs demonstrates continuity between the people of the Verde Valley during A.D. 1125-1425 and the people of Zuni.

Determinations Made by Tuzigoot National Monument

Officials of Tuzigoot National Monument have determined that:

• Pursuant to 25 U.S.C. 3001(9), the human remains described in this notice represent the physical remains of one individual of Native American ancestry.

• Pursuant to 25 U.S.C. 3001(3)(A), the 22 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dorothy FireCloud, Superintendent, Tuzigoot National Monument, P.O. Box 219, Camp Verde, AZ 86322, telephone (928) 567-5276, email dorothy_firecloud@nps.gov, by December 8, 2017. After that date, if no additional requestors have come forward, transfer of control of the human remains and associated funerary objects to The Tribes may proceed.

Tuzigoot National Monument is responsible for notifying The Tribes that this notice has been published.

Dated: September 21, 2017.
Melanie O'Brien,
Manager, National NAGPRA Program.

[FR Doc. 2017-24235 Filed 11-7-17; 8:45 am]

BILLING CODE 4310-70-P